DEPARTMENT OF TRANSPORTATION

Federal Highway Administration

Environmental Impact Statement: Riverside County, CA

AGENCY: Federal Highway Administration, Department of Transportation.

ACTION: Notice of Intent.

SUMMARY: The Federal Highway Administration (FHWA), in cooperation with the Riverside County Transportation Commission (RCTC) and the California Department of Transportation (Caltrans), is issuing this notice to advise the public that an Environmental Impact Statement (EIS) will be prepared for the proposed Mid County Parkway (MCP) project. The EIS will study alternatives to implement the proposed Mid County Parkway project in western Riverside County between Interstate 15 (I-15) to the west and State Route 79 (SR 79) to the east.

FOR FURTHER INFORMATION CONTACT: Tay Dam, Senior Transportation Engineer, Federal Highway Administration—Los Angeles Metro Office, 201 N. Figueroa Street, Suite 1460, Los Angeles, California 90012. Telephone: (213) 202-3954. Fax: (213) 202-3961 or Cathy Bechtel, Riverside County Transportation Commission, 4080 Lemon Street, 3rd Floor, P.O. Box 12008, Riverside, CA 92502-2208. Telephone: (951) 787-7141. Fax: (951) 787-7920.

SUPPLEMENTARY INFORMATION: The proposed Mid County Parkway is located in an area of western Riverside County that is currently undergoing substantial population and employment growth. The study area is located on either side of the existing roadway known as Cajalco Road between I-15 and I-215 and as Ramona Expressway east of I-215. The proposed action would adopt an alignment for the Mid County Parkway and construct a major limited access transportation facility to meet current and projected travel demand for 2030 and I-15 on the west to SR-79 on the east. The purpose of the project is to effectively and efficiently accommodate the regional east-west movement of people and goods between and through the cities of San Jacinto, Perris and Corona. The project will also provide roadway geometries to meet State highway design standards, accommodate the Surface Transportation Assistance Act (STAA) National Network oversized trucks and provide a facility that is compatible with a future multimodal transportation system.

The Mid County Parkway project is a part of the long-term transportation planning project in Riverside County called the Community and Environmental Transportation Acceptability Process (CETAP). CETAP is a component of comprehensive land use and transportation planning in Riverside County known as the Riverside County Integrated Project. CETAP was one of the first seven projects in the nation to be processed under Executive Order 13274 for “Environmental Stewardship and Transportation Infrastructure Reviews”.

Eight alternatives for the Mid County Parkway project have been developed for evaluation in the EIS, including a no action alternative. Many of the parkway alignment alternatives share common segments. Generally, Alternatives 2 through 5 vary in terms of whether the route is directed north or south of Lake Mathews and whether the route follows a northerly or southerly alignment through the City of Perris. Alternatives 6 and 7 incorporate the General Plan arterial designations for both Cajalco Road and El Sobrante west of Wood Road around Lake Mathews. The parkway component of Alternatives 6 and 7 is limited to the area east of Wood Road.

Alternatives under consideration include: (1) No Project/No Action; (2) North Lake Mathews/North Perris Parkway Alternative; (3) North Lake Mathews/South Perris Parkway Alternative; (4) South Lake Mathews/North Perris Parkway Alternative; (5) South Lake Mathews/South Perris Parkway Alternative; (6) General Plan/North Perris Alternative; (7) General Plan/South Perris Alternative; and (8) General Plan Circulation Element. These basic alternatives will have additional design variations and other engineering details. A final selection of study alternatives and their subset variations will not be made until all public and agency comments are reviewed following the scoping process.

Note: As required by the National Environmental Policy Act (NEPA) of 1969, all other reasonable alternatives including a no-build alternative will be considered. These alternatives may be refined, combined with various different alternative elements or be removed from further consideration as more analysis is conducted on the project alternatives. Letters describing the proposed action and soliciting comments will be sent to appropriate federal, State, and local agencies, and to private organizations and citizens who have previously expressed, or are known to have, an interest in this proposal. Three public scoping meetings will be held in December 2004. Public notice will be given of the time and place of these meetings.

Public hearings will be held after the draft EIS is completed. Public notice will be given of the time and place of the hearings. The draft EIS will be available for public and agency review and comment prior to the formal public hearings.

To ensure that the full range of issues related to the proposed action is addressed and all significant issues are identified, comments and suggestions are invited from all interested parties. Comments or questions concerning this proposed action and the EIS should be directed to the FHWA at the addresses provided above.

(Catalog of Federal Domestic Assistance Program Number 20.205, Highway Research, Planning and Construction. The regulations implementing Executive Order 12372 regarding intergovernmental consultation on Federal program and activities apply to this program)
Issued on November 16, 2004.
Mr. John E. Dewar,
Chief Operating Officer, California Division, Federal Highway Administration.

[FR Doc. 04-25805 Filed 11-19-04; 8:45 am]

BILLING CODE 4910-22-M